NATIONAL TRANSPORTATION SAFETY BOARD

Notice To Reinstate a Previously Approved Information Collection; Comment Request

AGENCY: National Transportation Safety Board (NTSB).

ACTION: Notice to reinstate a previously approved information collection for review and comment.

SUMMARY: In compliance with the Paperwork Reduction Act, this notice announces the NTSB is submitting an Information Collection Request (ICR), described below, to the Office of Management and Budget (OMB) for renewal of a previously approved information collection, NTSB Form 6120.1. This ICR is the second notice, as required by OMB regulations concerning approvals of information collections. This notice again describes the nature of the information collection and its expected burden; in addition, this notice describes some changes and additions the NTSB has made to Form 6120.1 after receiving feedback from the general aviation community.

DATES: Submit written comments regarding this proposed collection of information by December 19, 2013.

ADDRESSES: Interested members of the public may submit written comments on the collection of information to the OMB Desk Officer for the NTSB at Office of Management and Budget, 725 17th Street NW., Washington, DC 20503, Fax: 202-395-5806 (this is not a toll-free number), email: OIRA_submission@omb.eop.gov. Commenters are encouraged, but not required, to send a courtesy copy of any comments to the National Transportation Safety Board, ATTN: Office of Research and Engineering, 490 L'Enfant Plaza East SW., Washington, DC 20594.

FOR FURTHER INFORMATION CONTACT: Loren Groff, NTSB Office of Research and Engineering, at (202) 314-6517.

SUPPLEMENTARY INFORMATION: The NTSB announces the proposed extension of a public information collection and seeks public comment on the collection in accordance with the Paperwork Reduction Act. The NTSB's collection of information on Form 6120.1 is necessary to fulfill the NTSB's statutory mandate to investigate transportation accidents, because the form requests information concerning aviation accidents and incidents. This Notice informs the public that it may submit comments concerning the proposed use of this form to the OMB Desk Officer who oversees NTSB information collections. This renewal request is not associated with a rulemaking activity.

Paperwork Reduction Act Requirement

In accordance with OMB regulations that require this Notice for proposed ICRs, the NTSB herein notifies the public that it may submit comments on this proposed renewal of information collection. Title 5 CFR 1320.5(a)(1)(iv) requires an agency to publish in the Federal Register a notice soliciting comments regarding the proposed information collection. The notice must describe the information collection, the necessity for the collection, and the estimated burden the submission of information will impose on respondents. This notice must advise the public that it may submit comments directly to OMB. In accordance with these regulations, the NTSB now advises the public, via this notice, that it may submit comments directly to OMB concerning the NTSB's renewal of the information collected on NTSB Form 6120.1.

Prior to soliciting comments directed to OMB, the applicable regulations require an agency to first publish in the Federal Register a notice describing the information collection, and requesting the public submit comments directly to the agency. 5 CFR 1320.8(d). The NTSB published such notice on May 7, 2013. 78 FR 26659.

Public Input Regarding NTSB Form 6120.1

The NTSB did not receive any written comments concerning the proposed renewal of the information collection. However, the NTSB held what it has termed a “listening session” to obtain feedback from the general aviation (GA) community concerning NTSB investigations. The majority of NTSB aviation investigations concern GA accidents or incidents, and with recent advances in technology, the NTSB seeks to ensure it is collecting the most accurate and important information and data to ensure appropriate findings of probable cause.

In furtherance of this goal, the NTSB met with a group of 28 people who participated in the NTSB's GA listening session on April 3, 2013. These owners, operators, and other members of the GA community (such as safety researchers, educators, owner and builder associations, and manufacturers) provided input that prompted the NTSB to include a question on the form asking what “additional equipment” the aircraft contained, within the aircraft information category. In addition, the NTSB considered this feedback and now proposes updates to the form to include additional options for answers to some of the questions on the form. These changes are explained more fully below.

Description of NTSB Form 6120.1

The Pilot/Operator Aircraft Accident/Incident Report Form is used in determining the facts, conditions, and circumstances for aircraft accident prevention activities and for statistical purposes. In furtherance of its goal to ensure the form is updated and includes information that will assist the NTSB in investigating accidents and incidents, the NTSB recently determined it should replace some questions and reorganize the form. These changes will ensure the form solicits information concerning the latest technologies about which the NTSB will need information. In addition, some questions on the form will now solicit more specific information.

The majority of the form's contents remains unchanged; the form is still divided into 17 categories, which are titled as follows: Basic information; aircraft information; owner/operator information; airport information (to be completed if accident or incident occurred on approach, takeoff, or within 3 miles of an airport); “flight crew member 1” information; “flight crew member 2” information ¹; additional flight crew members; passengers/other personnel; flight itinerary information; weather information at the accident/incident site; damage to aircraft and other property ²; narrative history of flight; recommendation (concerning how the accident or incident may have been prevented); mechanical malfunction/failure; fuel and services information; evacuation of aircraft; and information concerning any other aircraft involved in the accident or incident (in the event of a collision).

¹ Previously, the titles of the sections for pilot information were entitled, “Pilot `A' Information” and “Pilot `B' Information,” respectively.

² Previously, the questions concerning the degree of damage the aircraft sustained, whether it was on fire, whether it exploded, and a description of the damage were all in distinct categories. In the proposed new form, the NTSB will seek information concerning aircraft damage, fire, and explosion in a general category entitled “damage to aircraft and other property.”

A. Basic Information

The basic information category remains largely unchanged; as described in the NTSB's previous notice concerning this ICR, the category requests information concerning the location and date and time of the accident or incident, the phase of operation during which the accident or incident occurred, and whether the occurrence was a collision with other aircraft. The question concerning the altitude if the event was an in-flight occurrence is no longer on the form; instead, the basic information section includes fields in which the respondent can enter in decimal degrees “minutes:seconds” the latitude and longitude of the accident or incident.

B. Aircraft Information

1. Prior Requests

The aircraft information category continues to request the following information concerning the aircraft: manufacturer, model, serial number, registration number, weight and center of gravity of the aircraft, whether the aircraft was amateur-built, category of aircraft, type of airworthiness certificate, number of seats, type of landing gear, type of maintenance program, type and date of last inspection, total time on airframe, type of fire extinguishing system, type of reciprocating fuel system, and type of propeller. The aircraft information category also continues to request “yes” or “no” answers to the following: Whether the aircraft had a stall warning system installed; whether the emergency locator transmitter (ELT) was activated, and additional information about the ELT, such as whether it aided in locating the accident/incident, its manufacturer, model/series, serial number, and battery type. This section of the form also still requests detailed information concerning the engine(s) on the aircraft, such as the engine manufacturer, model/series, serial number, date of manufacture, type of power measurement (horsepower or pounds of thrust), total time on engine, time since last inspection, and time since overhaul.

2. New Requests

Also within the aircraft information section, the new version of the form will now request information concerning the following: The year of manufacture of the aircraft and if amateur built, the make of the kit/plans used or whether the aircraft was built according to “original design.” In addition, the form now requests a selection from the following options: “IFR [instrument flight rules] equipped and certified,” “commercial space flight,” or “unmanned aircraft.” The aircraft information category also now includes space for two propellers, rather than one; if applicable, respondents will complete information indicating the manufacturer and model of both propellers. For the question concerning the ELT on the aircraft, the new form includes additional questions: The TSO Number, from a selection of the following choices: C91 (121.5 MHz); C91a (121.5 MHz); or C126 (406 MHz). In this regard, the form also solicits answers to whether the ELT was still mounted in the aircraft, whether it was still connected to antenna, and, if it was not activated, the reason for its damage (impact damage, fire damage, battery expired/damaged, or unknown).

Finally, the aircraft information section also now includes a selection from the following list of equipment, and asks respondents to check any of the following items that were on the aircraft: ADS-B, airframe parachute, angle of attack indicator, autopilot, data recorder, electronic flight bag or handheld device, electronic malfunction display, electronic primary flight display, handheld GPS, heads up display, onboard weather, satellite tracking device, stall warning system, video recording device, and an option stating “other, specify.”

C. Owner/Operator Information

The owner/operator section of NTSB Form 6120.1 also remains largely unchanged, but is organized in a way that is more easily understandable. The section continues to request specific information concerning the status of the aircraft, such as the names and contact information for both the owner and the operator of the aircraft, the Federal Aviation Regulation (FAR) under which the flight was conducted, whether the flight was a revenue sightseeing flight or air medical flight,³ the purpose of the flight, the type of revenue operation, type of cargo operation (if applicable), and the type of commercial operating certificate the operator holds. These questions now contain additional options, such as FAR 415, FAR 431, FAR 435, and FAR 437 in the question asking the “regulation” under which the flight was conducted; these new FAR parts will assist the NTSB in identifying flights that were conducted as part of a commercial space launch. It also contains updated options concerning the purpose of the flight, such as banner tow, external load, firefighting, glider tow, and skydiving. The NTSB believes including these options to the questions will ensure it obtains the most accurate responses to the form.

³ The instructions section of the form, which precedes all questions, now includes brief definitions of “revenue sightseeing flight” and “air medical flight.”

Regarding airport information, the form continues to request the airport name and identifier, the aircraft's proximity to the airport (as off or on the airport or airstrip), distance and direction from airport, and the elevation of the airport. The form includes boxes for respondents to check describing the approach segment, type of IFR approach, type of visual flight rules (VFR) approach, runway information, and type and condition of runway or landing surface. These questions remain unchanged. However, within the airport departure segment question, the form will now offer the following options in addition to the existing ones: “taxi,” “takeoff,” “initial climb,” “VFR departure,” “IFR departure/clearance,” and “unknown.” The NTSB believes these additional options will ensure the most accurate responses.

D. Crew Information

1. Prior Requests

Concerning the crew aboard the aircraft, the form continues to request information on both pilots, such as names and contact information, dates of birth, certificate numbers, degree of injury, seats occupied, whether the pilots used seat belts and shoulder harnesses, the types of pilot and medical certificates held, the principal occupation, and date of last aviation medical examination. With regard to each pilot's medical information, the form also requests a listing of any medical certificate limitations and waivers. The form also requests information concerning each pilot's flight reviews, such as the date of the last flight review and the type of aircraft used on the last flight review; further, the form solicits information concerning each pilot's ratings, such as aircraft ratings, instrument ratings, instructor ratings, and type ratings, as well as student endorsements. Finally, the form includes a table requesting the amount of flight time (categorized into the following sections: Total flight time, pilot-in-command time, instructor time, time in this make/model, and time during the last 90 days, 30 days, and 24 hours) concerning: all aircraft, the make and model of the aircraft in which the pilot accrued the flight time, airplane single- and multi-engine, night, instrument, rotorcraft, glider, and lighter than air. The only addition to the sections soliciting information on flight crew member 1 and flight crew member 2 is a “yes” or “no” answer to the statement “Flight crew member 1 was the pilot flying” and “Flight crew member 2 was the pilot flying,” respectively.

2. New Requests and Other Changes

In a category concerning additional crewmembers, the form now includes two spaces ⁴ for listing the following information concerning different crewmembers: Crewmembers' names and contact information, degree of injury, seat occupied, type of pilot certificates, whether the crewmember was type-rated for the aircraft involved in the accident or incident, and the total flight time at the time of the accident or incident. With regard to passengers, the form only requests the name, city, state, and zip code for each passenger, as well as the seat number, whether the passenger is crew, non-revenue, revenue, non-occupant, or Federal Aviation Administration (FAA). Previously, the form included eight spaces for listing eight passengers' information. The new form includes four spaces for passenger information, as the NTSB determined four spaces are sufficient.

⁴ Previously, the form included spaces for three pilots. The NTSB determined only two spaces are necessary.

In both the flight crew member 1 and 2 sections, the additional flight crewmember section, and in the passengers/other personnel section, the NTSB has reorganized them and included additional options concerning its questions about restraints. Each of these questions now include the following table:

Restraint type: Available | Restraint type: Used | Inflatable restraints
○ None | ○ None | ○ Not installed.
○ Lap Only | ○ Lap Only | ○ Installed.
○ 3-point | ○ 3-point | ○ Not deployed.
○ 4-point | ○ 4-point | ○ Deployed.
○ 5-point | ○ 5-point | ○ Unknown.
○ Unknown | ○ Unknown |

In addition, the passenger(s)/other personnel section, which contains four spaces, now will also include a section of the restraint table requesting whether a child under 5 years old was on the aircraft, and whether the restraint was: “child restraint,” “lap-held,” or “unknown.”

E. Flight Itinerary Information

As described in the NTSB's previous notice concerning this form, the NTSB also requests information concerning the flight itinerary, such as the last departure point and time of departure, and the destination. By way of check-the-box responses, this category also requests information concerning the type of flight plan filed, type of air traffic control clearance or service, airspace where the accident or incident occurred, and a description of the aircraft load. This section does not contain any proposed changes.

F. Weather Information at the Accident/Incident Site

The form requests information concerning weather conditions at the time of the accident. These requests within the weather category continue to ask for information concerning the weather observation facility; the source of weather information; the method of briefing concerning weather as well as the type and completeness of the briefing; the light condition; characterization of visibility; sky and lowest cloud condition; the ceiling and its height; the restriction on visibility; the wind direction, speed, and gusts; the type and severity of turbulence; and a list of Notices to Airman and other similar advisories in effect at the time of the flight. In addition, the form requests the temperature, altimeter setting, density altitude, and dew point. Finally, this category of the form requests information concerning actual and forecasted conditions concerning icing, as well as the type and intensity of any precipitation. This category only contains the addition of one option in the “source of pilot weather information section”: Respondents may now select “on-board weather” as their means of receiving weather information.

G. Narrative History of Flight

As stated above, the form concludes with areas for a narrative history of the flight and the events or actions the respondent believes may have prevented the accident or incident. The proposed new form contains these categories in a new location, but the text of the questions are the same.

H. Other Information

The form seeks information concerning whether the aircraft sustained a mechanical malfunction or failure. The questions within this category, as well as the categories requesting fuel and services information, data concerning the evacuation of the aircraft (if applicable), and information concerning the other aircraft (if a collision occurred) remain the same as described in the NTSB's earlier notice concerning this information collection.

I. Certification Statement

Finally, as described in the NTSB's previous notice regarding this information collection, the form also includes a certification statement for the respondent to sign, attesting that the information provided on the form is complete and accurate to the best of his or her knowledge. The proposed new version of the form will allow respondents to electronically sign the form by checking a box.

Use of Information on NTSB Form 6120.1

As described in its May 7, 2013 notice, the NTSB generally uses the information provided on Form 6120.1 to determine the facts, conditions, and circumstances for aircraft accident prevention activities and for statistical purposes. The NTSB typically receives several notifications for each accident or incident, but only requests completion of Form 6120.1 once the NTSB has determined it will pursue an investigation into the event. The NTSB utilizes a “party process,” as described in 49 CFR part 831, for its investigations. This process involves the NTSB's invitation to outside entities to assist with an investigation as a “party.” The NTSB extends party status to those organizations that can provide the necessary technical assistance to the investigation. The investigator-in-charge (IIC), for example, often confers party status to the operator, aircraft, systems, and powerplant manufacturers, and labor organizations involved because of the accident circumstances. Everyone involved in an NTSB investigation, including the parties, depend on accurate information contained in NTSB Form 6120.1 while conducting the investigation and determining which areas warrant focus and attention. Overall, the NTSB considers Form 6120.1 to be critical to its statutory function of investigation accidents and incidents, and subsequently issuing safety recommendations in an effort to prevent future accidents and incidents.

The NTSB has carefully considered whether this collection of information on Form 6120.1 is duplicative of any other agency's collections of information. The NTSB is unaware of any form the FAA disseminates that solicits the same information Form 6120.1 requires. However, the NTSB notes some operators may choose to provide a voluntary report to the National Aeronautics and Space Administration (NASA) in accordance with the Aviation Safety Reporting System (ASRS). NASA will not accept ASRS reports concerning aircraft accidents; however, it is possible that an operator could report an incident to the NTSB, as defined in 49 CFR 830.2, and contemporaneously submit an ASRP report to NASA.

The NTSB notes completion of NTSB Form 6120.1 is not voluntary, but is required by 49 CFR 830.15(a). The NTSB, in general, will not accept partially completed forms; NTSB investigators will exercise their discretion in requesting completion of a copy of Form 6120.1 a respondent submits that is partially completed. In many cases, the NTSB recognizes not all fields will apply to each event; therefore, the NTSB will not require completion of inapplicable fields.

Currently, the NTSB accepts paper copies of Form 6120.1 sent via postal mail or facsimile, as well as electronic copies of Form 6120.1 that respondents submit via electronic mail. For electronically submitted copies, the NTSB notes its public Web site contains a fill-able version of Form 6120.1. As described above, the updated version of the form will include a box the respondent can check to electronically sign the form; therefore, respondents need not scan a copy of the form to send it via electronic mail, because respondents now have the option of completing the form by typing answers within the electronic version and sending it via electronic mail.

The NTSB has carefully reviewed the form to ensure that it has used plain, coherent, and unambiguous terminology in its request for information. The NTSB estimates that respondents will spend approximately 60 minutes in completing the form. The NTSB estimates that approximately 1,800 respondents per year will complete the form, but notes that this number may vary, given the unpredictable nature of the frequency of aviation accidents and incidents.

Deborah A.P. Hersman,
Chairman.

[FR Doc. 2013-27654 Filed 11-18-13; 8:45 am]

BILLING CODE 7533-01-P